DEPARTMENT OF COMMERCE

[I.D. 042403D]

Submission for OMB Review; Comment Request

SUPPLEMENTARY INFORMATION: The Department of Commerce has submitted to the Office of Management and Budget (OMB) for clearance the following proposal for collection of information under the provisions of the Paperwork Reduction Act (44 U.S.C. Chapter 35).

Agency: National Oceanic and Atmospheric Administration (NOAA).

Title: Designation of Fishery Management Council Members and Application for Reinstatement of State Authority.

Form Number(s): None.

OMB Approval Number: 0648-0314.

Type of Request: Regular submission.

Burden Hours: 4,543.

Number of Respondents: 142.

Average Hours Per Response: 1 hour to designate a principal state fishery official(s); 80 hours for a nomination for a Council appointment; 16 hours for background documentation from nominees; and 1 hour for a request to reinstate state authority.

Needs and Uses: The Magnuson-Stevens Fishery Conservation and Management Act (Magnuson-Stevens Act), as amended in l996, provides for the nomination for members of Fishery Management Councils by state governors and Indian treaty tribes, for the designation of a principal state fishery official who will perform duties under the Magnuson-Stevens Act, and for a request by a state for reinstatement of state authority over a managed fishery. Nominees for council membership must provide the governor or tribe with background documentation. The State governors and Indian treaty tribes submit written nominations to the Secretary of Commerce, together with recommendations and statements of candidate qualifications. Designations of state officials and requests for reinstatement of state authority are also made in writing in response to regulations. No forms are used. The information submitted with these actions will be used to ensure that the requirements of the Magnuson-Stevens Act are being met.

Affected Public: State, Local, or Tribal government.

Frequency: Annually and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, Room 10202, New Executive Office Building, Washington, DC 20503.

Dated: April 22, 2003.
Gwellnar Banks,
Management Analyst, Office of the Chief Information Officer.

[FR Doc. 03-10677 Filed 4-29-03; 8:45 am]

BILLING CODE 3510-22-S